ENVIRONMENTAL PROTECTION AGENCY

[FRL 6857-8]

Proposed Settlement Agreement, Clean Air Act Petitions for Review

AGENCY: Environmental Protection Agency (EPA).

ACTION: Notice of proposed settlement agreement providing for rulemaking to amend regulation issued pursuant to Clean Air Act Title IV.

SUMMARY: EPA hereby gives notice of a proposed settlement agreement in the case entitled Zinc Corporation of America v. EPA, No. 97-1734 (consolidated with 98-1562) (D.C. Cir.). EPA issues this notice in accordance with section 113(g) of the Clean Air Act, as amended (the “Act”), 42 U.S.C. 7413(g), which requires EPA to give notice and provide an opportunity for public comment on proposed settlement agreements.

The litigation challenges EPA's promulgation of two final rules under Title IV of the Act pertaining to control of acid rain. See 62 FR 55460 (Oct. 24, 1997); 63 FR 51705 (Sept. 28, 1998). Zinc Corporation of America (“Zinc”) filed two separate petitions for review of these EPA rules under section 307(b)(1) of the Act, 42 U.S.C. 7607(b)(1). The litigation concerns, among other things, EPA's creation of an exemption from certain requirements under Title IV for “industrial utility-units.” The proposed Settlement Agreement provides that EPA will undertake a rulemaking to eliminate the “industrial utility-units” exemption under 40 CFR 72.14. That exemption provides that certain units that are not cogeneration units and that generate only small amounts of electricity for sale could seek an exemption from many acid rain program requirements. In the absence of the exception, the status of such units will be determined by whether they meet the definition of “utility unit” or industrial source” under Title IV.

For a period of thirty (30) days following the date of publication of this notice, EPA will accept written comments relating to the proposed Settlement Agreement from persons who are not named as parties or interveners to this litigation. EPA or the Department of Justice may withhold or withdraw consent to the proposed Settlement Agreement if the comments disclose facts or circumstances that indicate that the agreement is inappropriate, improper, inadequate, or inconsistent with the requirements of the Act. Unless EPA or the Department of Justice makes such a determination following the comment period, EPA will take the actions set forth in the Settlement Agreement.

A copy of the proposed Settlement Agreement is available from Phyllis Cochran, Air and radiation Law Office (2344A), Office of General Counsel, U.S. Environmental Protection Agency, Ariel Rios Building, 1200 Pennsylvania Avenue, NW., Washington, DC 20460, (202) 546+5566. Written comments should be sent to Geoffrey L. Wilcox, Esq., at the above address and must be submitted on or before September 28, 2000.

Dated: August 23, 2000.
Anna Wolgast,
General Counsel.

[FR Doc. 00-22051 Filed 8-28-00; 8:45 am]

BILLING CODE 6560-50-M